DEPARTMENT OF ENERGY

Federal Energy Regulatory Commission

Combined Notice of Filings # 1

April 22, 2009.

Take notice that the Commission received the following electric corporate filings:

Docket Numbers: EC09-70-000.

Applicants: Hartwell Energy Limited Partnership, Southern Power Company.

Description: Application of Hartwell Energy Limited Partnership and Southern Power Company for Authorization Under Federal Power Act Section 203.

Filed Date: 04/21/2009.

Accession Number: 20090421-5019.

Comment Date: 5 p.m. Eastern Time on Tuesday, May 12, 2009.

Take notice that the Commission received the following electric rate filings:

Docket Numbers: ER00-2019-022; EL00-105-013.

Applicants: California Independent System Operator Corporation

Description: Settlement Refund Report of California Independent System Operator Corporation.

Filed Date: 04/21/2009.

Accession Number: 20090421-5201.

Comment Date: 5 p.m. Eastern Time on Tuesday, May 12, 2009.

Docket Numbers: ER09-1015-000.

Applicants: PJM Interconnection L.L.C.

Description: PJM Interconnection, LLC submits First Revised Service Agreement 1682 et al to FERC Electric Tariff, Sixth Revised Volume 1.

Filed Date: 04/20/2009.

Accession Number: 20090420-0183.

Comment Date: 5 p.m. Eastern Time on Monday, May 11, 2009.

Docket Numbers: ER09-1016-000.

Applicants: PJM Interconnection L.L.C.

Description: PJM Interconnection, LLC submits Thirteenth Revised Sheet 445 et al to FERC Electric Tariff, Sixth Revised Volume 1.

Filed Date: 04/20/2009.

Accession Number: 20090420-0184.

Comment Date: 5 p.m. Eastern Time on Monday, May 11, 2009.

Docket Numbers: ER09-1017-000.

Applicants: Southern California Edison Company.

Description: Southern California Edison Company submits Original Sheet 1 to FERC Electric Tariff, First Revised Volume 5 Service Agreement 223.

Filed Date: 04/20/2009.

Accession Number: 20090420-0185.

Comment Date: 5 p.m. Eastern Time on Monday, May 11, 2009.

Docket Numbers: ER09-1018-000.

Applicants: Virginia Electric and Power Company.

Description: Dominion Virginia Power submits revised cover sheet to cancel a First Revised Service Agreement 1349 & request waiver of Commission notice etc.

Filed Date: 04/20/2009.

Accession Number: 20090421-0326.

Comment Date: 5 p.m. Eastern Time on Monday, May 11, 2009.

Docket Numbers: ER09-1019-000.

Applicants: Arizona Public Service Company.

Description: Interconnection Agreement between Navopache Electric Cooperative, Inc & Arizona Public Service Company.

Filed Date: 04/20/2009.

Accession Number: 20090421-0325.

Comment Date: 5 p.m. Eastern Time on Monday, May 11, 2009.

Docket Numbers: ER09-1020-000.

Applicants: Panoche Energy Center, LLC.

Description: Application for Market- Based Rate Authority, Related Blanket Waivers and Authoritys, and Submission of Initial Rate Schedule re Panoche Energy Center, LLC under ER09-1020.

Filed Date: 04/20/2009.

Accession Number: 20090421-0324.

Comment Date: 5 p.m. Eastern Time on Monday, May 11, 2009.

Take notice that the Commission received the following open access transmission tariff filings:

Docket Numbers: OA08-126-001.

Applicants: Mid-Continent Area Power Pool.

Description: Annual Compliance Report of Penalty Assessments and Distributions of Mid-Continent Area Power Pool et. al.

Filed Date: 04/20/2009.

Accession Number: 20090420-5077.

Comment Date: 5 p.m. Eastern Time on Monday, May 11, 2009.

Docket Numbers: OA08-5-004.

Applicants: Southwest Power Pool, Inc.

Description: Southwest Power Pool, Inc submits Fourth Revised Sheet 176 et al to its FERC Electric Tariff, Fifth Revised Volume 1, pursuant to the Commission's 3/19/09 Order.

Filed Date: 04/20/2009.

Accession Number: 20090421-0337.

Comment Date: 5 p.m. Eastern Time on Monday, May 11, 2009.

Docket Numbers: OA08-96-002.

Applicants: Southern Company Services, Inc.

Description: Annual Report of Penalty Assessments and Distributions of Southern Company Services, Inc.

Filed Date: 04/20/2009.

Accession Number: 20090420-5201.

Comment Date: 5 p.m. Eastern Time on Monday, May 11, 2009.

Take notice that the Commission received the following electric securities filings:

Docket Numbers: ES09-25-000.

Applicants: Southwest Power Pool, Inc.

Description: Supplement to Application of Southwest Power Pool, Inc.

Filed Date: 04/21/2009.

Accession Number: 20090421-5150.

Comment Date: 5 p.m. Eastern Time on Friday, May 1, 2009.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E9-9739 Filed 4-28-09; 8:45 am]

BILLING CODE 6717-01-P